DEPARTMENT OF COMMERCE

Foreign-Trade Zones Board

[S-94-2014]

Foreign-Trade Zone 87—Lake Charles, Louisiana; Application for Subzone; LEEVAC Shipyards, LLC; Jennings, Louisiana

An application has been submitted to the Foreign-Trade Zones Board (the Board) by the Lake Charles Harbor & Terminal District, grantee of FTZ 87, requesting subzone status for the facility of LEEVAC Shipyards, LLC, located in Jennings, Louisiana. The application was submitted pursuant to the provisions of the Foreign-Trade Zones Act, as amended (19 U.S.C. 81a-81u), and the regulations of the Board (15 CFR part 400). It was formally docketed on July 16, 2014.

The proposed subzone (75 acres) is located at 111 Bunge Street in Jennings (Jefferson Davis Parish). The proposed subzone would be subject to the existing activation limit of FTZ 87. Production authority has already been approved for the facility (B-11-2014, 79 FR 31297, 6/2/2014).

In accordance with the Board's regulations, Camille Evans of the FTZ Staff is designated examiner to review the application and make recommendations to the Executive Secretary.

Public comment is invited from interested parties. Submissions shall be addressed to the Board's Executive Secretary at the address below. The closing period for their receipt is September 2, 2014. Rebuttal comments in response to material submitted during the foregoing period may be submitted during the subsequent 15-day period to September 15, 2014.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Camille Evans at Camille.Evans@trade.gov or (202) 482-2350.

Dated: July 16, 2014.
Andrew McGilvray,
Executive Secretary.

[FR Doc. 2014-17235 Filed 7-21-14; 8:45 am]

BILLING CODE 3510-DS-P